DEPARTMENT OF HEALTH AND HUMAN SERVICES

National Institutes of Health

Center for Scientific Review; Amended Notice of Meeting

Notice is hereby given of a change in the meeting of the Electrical Signaling, Ion Transport, and Arrhythmias Study Section, June 22, 2006, 8 a.m. to June 23, 2006, 5 p.m., Georgetown Suites, 1111 30th Street, NW., Washington, DC 20007 which was published in the Federal Register on May 11, 2006, 71 FR 27505-27507.

The meeting will be held at the Georgetown Suites, 1000 29th Street, NW., Washington, DC 20007. The meeting dates and time remain the same. The meeting is closed to the public.

Dated: June 13, 2006.
Anna Snouffer,
Acting Director, Office of Federal Advisory Committee Policy.

[FR Doc. 06-5572 Filed 6-21-06; 8:45 am]

BILLING CODE 4140-01-M